SMALL BUSINESS ADMINISTRATION

Military Reservist Economic Injury Disaster Loans Interest Rate for Third Quarter FY 2021

AGENCY: U.S. Small Business Administration.

ACTION: Notice.

SUMMARY: This is a notice of the Military Reservist Economic Injury Disaster Loans interest rate for loans approved on or after April 30, 2021.

DATES: Issued on 04/26/2021.

FOR FURTHER INFORMATION CONTACT: A. Escobar, Office of Disaster Assistance, U.S. Small Business Administration, 409 3rd Street SW, Suite 6050, Washington, DC 20416, (202) 205-6734.

SUPPLEMENTARY INFORMATION: The Small Business Administration publishes an interest rate for Military Reservist Economic Injury Disaster Loans (13 CFR 123.512) on a quarterly basis. The interest rate will be 2.880 for loans approved on or after April 30, 2021.

James Rivera,
Associate Administrator for Disaster Assistance.

[FR Doc. 2021-09008 Filed 4-29-21; 8:45 am]

BILLING CODE 8026-03-P